ENVIRONMENTAL PROTECTION AGENCY

[ER-FRL-6661-5]

Environmental Impact Statements; Notice of Availability Responsible

Agency: Office of Federal Activities, General Information (202) 564-7167 or http://www.epa.gov/compliance/nepa.

Weekly receipt of Environmental Impact Statements

Filed March 8, 2005 Through March 11, 2005

Pursuant to 40 CFR 1506.9.

EIS No. 050099, Draft EIS, AFS, OR, Big Butte Springs Timber Sales, To Implementation Management Direction, Roque River-Siskiyou National Forest, Butte Falls Ranger District, Cascade Zone, Jackson County, OR, Comment Period Ends: May 2, 2005, Contact: Joel T. King (541) 560-3400.

EIS No. 050100, Final EIS, HUD, CA, Marysville Hotel Demolition Project, Proposed Acquisition and Demolition of Building, City of Marysville, Yuba County, CA, Wait Period Ends: April 18, 2005, Contact: Gary Price (530) 749-3904.

EIS No. 050101, Final EIS, AFS, AZ, Arizona Snowbowl Facilities Improvements, Proposal to Provide a Consistent/Reliable Operating Season, Coconino National Forest, Coconino County, AZ, Wait Period Ends: April 18, 2005, Contact: Ken Jacobs (928) 774-1147.

EIS No. 050102, Final EIS, COE, OH, Mill Creek, Ohio Flood Damage Reduction Project, To Reduce Damages to Communities, Hamilton County, OH, Wait Period Ends: April 18, 2005, Contact: Barry Schueler (502) 315-6780.

EIS No. 050103, Draft EIS, HUD, CA, Stillwater Business Park, Development of Business Park, Annexation AN 1-01, Shastec Redevelopment Project Area, Airport Land Use Plan Amendment Pre-Zone, General Plan Amendment GPA-2-01, Funding and U.S. Army COE 404 Permit, City of Redding, Shasta County, CA, Comment Period Ends: May 2, 2005, Contact: Nathan Cherpeski (530) 225-4519.

EIS No. 050104, Draft EIS, AFS, CA, Golden Gate National Recreation Area (GGNRA) Fire Management Plan, Implementation, Muir Woods National Monument, Fort Point National Historic Site, San Mateo, San Francisco and Marin Counties, CA, Comment Period Ends: May 17, 2005, Contact: Alex Naar (415) 331-6374.

EIS No. 050105, Draft EIS, AFS, WI, PROGRAMMTIC EIS—Huron-Manistee National Forests, Proposed Land and Resource Management Plan, Implementation, Several Counties, WI, Comment Period Ends: May 2, 2005, Contact: Jeff Pullen (231) 775-2421.

EIS No. 050106, Final EIS, AFS, MT, Sheep Creek Salvage Project, Moving Current Resource Conditions and Trends Toward Desired Future Conditions, Beaverhead-Deerlodge National Forest, Beaverhead County, MT, Wait Period Ends: April 19, 2005, Contact: Jeffrey L. Trejo (406) 832-3178.

EIS No. 050107, Draft EIS, AFS, IL, Shawnee National Forest Proposed Land and Resource Management Plan Revision, Implementation, Alexander, Gallatin, Hardin, Jackson, Johnson, Massac, Pope, Union and Williamson Counties, IL, Comment Period Ends: June 16, 2005, Contact: Stephen Hupe (618) 253-7114.

EIS No. 050108, Final EIS, FTA, UT, Weber County to Salt Lake City Commuter Rail Project, Proposes a Commuter Rail Transit Service with Nine Stations between Salt Lake City and Peasant View, Funding, Weber, Davis and Salt Lake Counties, UT, Wait Period Ends: April 18, 2005, Contact: Don Cover (720) 963-3332.

EIS No. 050109, Draft Supplement, NOA, PR, VI, Amendment to the Fishery Management Plans (FMPs), Amendment 2 for the Spiny Lobster Fishery; Amendment 1 for the Queen Conch Resources; Amendment 3 for the Reef Fish Fishery; Amendment 2 Corals and Reef Associated Invertebrates, U.S. Caribbean to Address Required Provisions MSFCMA, Puerto Rico and the U.S. Virgin Island, Comment Period Ends: May 2, 2005, Contact: Dr. Roy Crabtree (727) 824-5301.

Amended Notices

EIS No. 050018, Draft EIS, FAA, IL, O'Hare Modernization Program, Proposes Major Development, Chicago O'Hare International Airport, Airport Layout Plan (ALP), Federal Funding, U.S. Army COE Section 404 Permit, City of Chicago, IL, Comment Period Ends: April 6, 2005, Contact: Michael W. MacMullen (847) 294-8339. Revision of FR Notice Published on 1/28/05: CEQ Comment Period Ending 03/23/2005 has been Extended to 04/06/2005.

EIS No. 050063, Final EIS, AFS, UT, Monticello and Blanding Municipal Watershed Improvement Projects, Implementation, Manti-La Sal National Forest, Monticello Ranger District, San Juan County, UT, Wait Period Ends: March 21, 2005, Contact: Greg T. Montgomery (435) 636-3348. Revision of FR Notice Published on 2/18/2005: Correction to Contact Person Name and Telephone Number.

EIS No. 050068, Draft EIS, AFS, AK, OK, Ouachita National Forest, Proposed Revised Land and Resource Management Plan, Implementation, several counties, AR and LeFlore and McCurtain Counties, OK, Comment Period Ends: May 26, 2005, Contact: Bill Pell (501) 321-5320. Revision of FR Notice Published on 2/25/2005: CEQ Comment Period Ending on 4/11/2005 has been Extended to 5/26/2005.

Dated: March 15, 2005.
Robert W. Hargrove,
Director, NEPA Compliance Division, Office of Federal Activities.

[FR Doc. 05-5417 Filed 3-17-05; 8:45 am]

BILLING CODE 6560-50-P